DEPARTMENT OF ENERGY

Federal Energy Regulatory Commission

[Docket No. RP12-130-000]

Paiute Pipeline Company; Notice of Technical Conference

Take notice that the Commission Staff will convene a technical conference in the above-referenced proceeding on Tuesday, January 24, 2012, at 10 a.m. (EST), in a room to be designated at the offices of the Federal Energy Regulatory Commission, 888 First Street, NE., Washington, DC 20426.

The technical conference will address Paiute Pipeline Company's proposed tariff modifications. These include Paiute's proposal to (1) To update its tariff with respect to various Commission policies and accepted principles and to reflect contemporary industry practices; (2) to add, enhance, clarify, improve, update, and/or remove various tariff provisions; and (3) to make miscellaneous minor housekeeping changes. Paiute should be prepared to address all concerns raised by the parties in their comments and to provide support for its proposed revisions.

FERC conferences are accessible under section 508 of the Rehabilitation Act of 1973. For accessibility accommodations please send an email to accessibility@ferc.gov or call toll free (866) 208-3372 (voice) or (202) 502-8659 (TTY), or send a fax to (202) 208-2106 with the required accommodations.

All interested persons are permitted to attend. For further information please contact Michelle A. Davis at (202) 502-8687 or email Michelle.Davis2@ferc.gov.

Dated: January 4, 2012.
Kimberly D. Bose,
Secretary.

[FR Doc. 2012-271 Filed 1-10-12; 8:45 am]

BILLING CODE 6717-01-P